DEPARTMENT OF AGRICULTURE

Forest Service

Lake County Resource Advisory Committee

AGENCY: Forest Service, USDA.

ACTION: Notice of meeting.

SUMMARY: The Lake County Resource Advisory Committee (RAC) will hold a meeting.

DATES: The meeting will be held on July 10, 2003, from 3 p.m. to 5 p.m.

ADDRESSES: The meeting will be held at the Lake County Board of Supervisor's Chambers at 255 North Forbes Street, Lakeport.

FOR FURTHER INFORMATION CONTACT: Debbie McIntosh, Committee Coordinator, USDA, Mendocino National Forest, Upper Lake Ranger district, 10025 Elk Mountain Road, Upper Lake, CA 95485. (707) 275-2361: e-mail dmcintosh@fs.fed.us.

SUPPLEMENTARY INFORMATION: Agenda items to be covered include: (1) Roll Call/Establish Quorum; (2) Review and Approval of the Minutes of the March 20, 2003 Meeting; (3) Finalize business for 2002; (4) Wrap up Discussion on Lake/Mendocino RAC; (5) Soda Creek Stream Condition Improvement Discussion; (6) Title II funds available for Projects for 2003; (7) Recommend Projects for 2003; (8) Discuss Project Cost Accounting USFS/County of Lake; and (9) Pubic Comment period. The meeting is open to the public. Public input opportunity will be provided and individuals will have the opportunity to address the Committee at that time.

Dated: June 4, 2003.
Blaine P. Baker,
Designated Federal Officer.

[FR Doc. 03-14783 Filed 6-10-03; 8:45 am]

BILLING CODE 3410-11-M